ENVIRONMENTAL PROTECTION AGENCY

[FRL-8333-4]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the charge for the Advisory Committee, the purpose, efficacy, and applicability of the Total Coliform Rule (TCR), determine the availability of data and research to better understand the potential public health impact of the degradation of water quality in distribution systems, and discuss existing data sources and potential analyses to support the advisory committee.

The TCR provides public health protection from microbial contamination in drinking water, while indicating the adequacy of treatment and the integrity of the drinking water distribution system. EPA committed to begin the process of revising the TCR as part of the 6-year review requirements of the Safe Drinking Water Act. EPA believes that an opportunity for implementation improvement exists in revising the TCR; the Agency plans to assess the effectiveness of the current TCR in reducing public health risk and what technically supportable alternative/additional monitoring strategies are available to improve implementation while maintaining or improving public health protection.

Attendees will discuss the current TCR and its objectives, develop consensus recommendations on potential opportunities for improvements to the current rule, and discuss available data on distribution systems. Attendees will also discuss the proposed scope, possible discussion topics, and protocols for the Total Coliform Rule/Distribution System Advisory Committee.

DATES: The public meeting will be held on Tuesday, July 17, 2007 (8:30 a.m. to 6 p.m., Eastern Daylight Time (EDT)) and Wednesday, July 18, 2007 (8 a.m. to 3 p.m. EDT). Attendees should register for the meeting by calling Jason Peller at (202) 965-6387 or by e-mail to jpeller@resolv.org no later than July 13, 2007.

ADDRESSES: The meeting will be held at the Washington Marriott at 1221 22nd Street, NW., Washington, DC 20037.

FOR FURTHER INFORMATION CONTACT: For general information, contact Jason Peller of RESOLVE at (202) 965-6387. For technical inquiries, contact Tom Grubbs (grubbs.thomas@epa.gov, (202) 564-5262) or Ken Rotert (rotert.kenneth@epa.gov, (202) 564-5280), Standards and Risk Management Division, Office of Ground Water and Drinking Water (MC 4607M), Environmental Protection Agency, 1200 Pennsylvania Ave., NW., Washington, DC 20460; fax number: (202) 564-3767.

SUPPLEMENTARY INFORMATION: The meeting is open to the public. The Committee encourages the public's input and will take public comment at 5:15 p.m. on July 17, 2007, for this purpose. It is preferred that only one person present the statement on behalf of a group or organization. To ensure adequate time for public involvement, individuals interested in presenting an oral statement may notify Jini Mohanty by telephone at 202-564-5269 no later than July 16, 2007.

Special Accommodations

For information on access or services for individuals with disabilities, please contact Jini Mohanty at 202-564-5269 or by e-mail at mohanty.jini@epa.gov. To request accommodation of a disability, please contact Jini Mohanty, preferably at least 10 days prior to the meeting to give EPA as much time to process your request.

Dated: June 26, 2007.
Nancy Gelb,
Acting Director, Office of Ground Water and Drinking Water.

[FR Doc. E7-12648 Filed 6-28-07; 8:45 am]

BILLING CODE 6560-50-P